DEPARTMENT OF TRANSPORTATION

Federal Aviation Administration

14 CFR Part 39

[Docket No. 2000-NM-299-AD; Amendment 39-12107; AD 2001-03-04]

RIN 2120-AA64

Airworthiness Directives; Bombardier Model CL-600-2B19 Series Airplanes

AGENCY: Federal Aviation Administration, DOT.

ACTION: Final rule; request for comments.

SUMMARY: This amendment adopts a new airworthiness directive (AD) that is applicable to certain Bombardier Model CL-600-2B19 series airplanes. This action requires repetitive ultrasonic inspection to detect damage of the actuator lugs of the flight spoiler center hinge; corrective action, if necessary; and eventual replacement of the flight spoilers with new, improved spoilers. This action is necessary to prevent uncommanded deployment of a flight spoiler, which could result in reduced controllability of the airplane. This action is intended to address the identified unsafe condition.

DATES: Effective March 1, 2001.

The incorporation by reference of certain publications listed in the regulations is approved by the Director of the Federal Register as of March 1, 2001.

Comments for inclusion in the Rules Docket must be received on or before March 16, 2001.

ADDRESSES: Submit comments in triplicate to the Federal Aviation Administration (FAA), Transport Airplane Directorate, ANM-114, Attention: Rules Docket No. 2000-NM-299-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via the Internet must contain “Docket No. 2000-NM-299-AD” in the subject line and need not be submitted in triplicate. Comments sent via fax or the Internet as attached electronic files must be formatted in Microsoft Word 97 for Windows or ASCII text.

The service information referenced in this AD may be obtained from Bombardier, Inc., Canadair, Aerospace Group, P.O. Box 6087, Station Center-ville, Montreal, Quebec H3C 3G9, Canada. This information may be examined at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: Serge Napoleon, Aerospace Engineer, Airframe and Propulsion Branch, ANE-171, FAA, New York Aircraft Certification Office, 10 Fifth Street, Third Floor, Valley Stream, New York 11581; telephone (516) 256-7512; fax (516) 568-2716.

SUPPLEMENTARY INFORMATION: Transport Canada Civil Aviation (TCCA), which is the airworthiness authority for Canada, has notified the FAA that an unsafe condition may exist on certain Bombardier Model CL-600-2B19 series airplanes. The TCCA advises that uncommanded deployment of a flight spoiler during flight has been reported. Such uncommanded deployment of the flight spoiler has been attributed to a fracture of the actuator lug on the center hinge fittings of the left or right flight spoiler. Recently, an uncommanded deployment of the flight spoiler during flight occurred at about 4,000 flight cycles. TCCA had previously identified an inspection threshold of 7,000 flight cycles to detect any fracturing of the actuator lug. Such uncommanded deployment of a flight spoiler can reduce the controllability of the airplane.

Explanation of Relevant Service Information

Bombardier has issued Alert Service Bulletin A601R-57-027, Revision C, dated May 30, 2000, which describes nondestructive evaluation procedure NDE UT-35 for repetitive (ultrasonic) inspections to detect damage of the actuator lugs of the flight spoiler center hinge fittings on the left-hand and right-hand flight spoilers at spoiler stations 195.36 and 204.36. The alert service bulletin also describes procedures for repetitive inspections if any damage is within certain limits and replacement of the left-hand and right-hand flight spoiler with serviceable or new, improved flight spoilers if any damage is beyond certain limits.

Bombardier also issued Service Bulletin 601R-57-029, dated May 30, 2000, which describes installation of new, enhanced flight spoilers. Installation of the new, improved flight spoilers eliminates the need for the repetitive inspections described in the above alert service bulletin.

Accomplishment of the actions specified in the service information above is intended to adequately address the identified unsafe condition.

TCCA classified the service information above as mandatory and also requires that the results of the mandated inspections be reported to the manufacturer. TCCA issued Canadian airworthiness directive CF-2000-15, dated June 6, 2000, to assure the continued airworthiness of these airplanes in Canada.

FAA's Conclusions

This airplane model is manufactured in Canada and is type certificated for operation in the United States under the provisions of section 21.29 of the Federal Aviation Regulations (14 CFR 21.29) and the applicable bilateral airworthiness agreement. Pursuant to this bilateral airworthiness agreement, the TCCA has kept the FAA informed of the situation described above. The FAA has examined the findings of the TCCA, reviewed all available information, and determined that AD action is necessary for products of this type design that are certificated for operation in the United States.

Explanation of Requirements of the Rule

Since an unsafe condition has been identified that is likely to exist or develop on other airplanes of the same type design registered in the United States, this AD requires accomplishment of the actions specified in the service information described previously, except as discussed below.

Differences Between This AD, the Foreign AD, and the Service Information

Although the manufacturer references the number of flight cycles based on the serialized components, the Canadian AD specifies the number of flight cycles based on cycles of the airplane. The FAA considers that, since flight cycles on airplanes may differ from those of the flight cycles on flight spoilers, specifying the number of flight cycles on airplanes is, in this case, more conservative and therefore, appropriate.

Operators should note that, although TCCA specifies several different compliance thresholds based on accumulated flight cycles, this AD specifies an inspection threshold of “prior to the accumulation of 3,000 flight cycles.” (As typically allowed in AD's, a grace period also has been provided for airplanes on which the flight cycle threshold has been exceeded.) The lower inspection threshold is necessary as a consequence of the previously mentioned uncommanded deployment of the flight spoiler that occurred around 4,000 flight cycles.

Interim Action

This action is considered to be interim action. The FAA is currently considering requiring replacement of any flight spoiler having part number (P/N) 600-10602-1001 or 600-10602-1002 with a new, improved left-hand flight spoiler having P/N 600-10602-73 or a new, improved right-hand flight spoiler having P/N 600-10602-74. Such replacements will constitute terminating action for the repetitive inspections required by this AD action. However, the planned compliance time for the replacements is sufficiently long so that notice and opportunity for prior public comment will be practicable.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-299-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-03-04 Bombardier, Inc. (Formerly Canadair): Amendment 39-12107. Docket 2000-NM-299-AD.

Applicability: Model CL-600-2B19 series airplanes, serial numbers 7003 through 7340 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent uncommanded deployment of a flight spoiler, which could result in reduced controllability of the airplane, accomplish the following:

Inspections

(a) Prior to the accumulation of 3,000 total flight cycles or within 30 days after the effective date of this AD, whichever occurs later: Perform nondestructive evaluation procedure NDE UT-35 (ultrasonic inspections) to detect damage (e.g., cracking) of the actuator lugs on both of the center hinge fittings of flight spoilers part numbers (P/N) 600-10602-1001 and -1002, at spoiler stations 195.36 and 204.36; per Section 2, Accomplishment Instructions, Part A of Bombardier Alert Service Bulletin A601R-57-027, Revision C, dated May 30, 2000. If no damage is detected, repeat the inspection at intervals not to exceed 500 flight cycles until the requirements of paragraph (c) of this AD have been accomplished.

Note 2: Accomplishment of the nondestructive evaluation procedure in accordance with Bombardier Alert Service Bulletin A601R-57-027, dated April 19, 1999; Revision A, dated July 23, 1999; or Revision B, dated December 8, 1999; is acceptable for compliance with the requirements of paragraph (a) of this AD.

Corrective Actions

(b) If any damage (e.g., cracking) is detected during the inspection required by paragraph (a) of this AD: Prior to further flight, remove the damaged flight spoiler and perform nondestructive evaluation procedure NDE ET-27 of the lug, per Section 2 of the Accomplishment Instructions of Part B of Bombardier Alert Service Bulletin A601R-57-027, Revision C, dated May 30, 2000.

(i) If no damage is detected, repeat the inspection required by paragraph (a) of this AD at intervals not to exceed 500 flight cycles until the requirements of paragraph (c) of this AD have been accomplished.

(ii) If any damage is detected, prior to further flight, replace the damaged flight spoiler with a new or serviceable flight spoiler, per Bombardier Service Bulletin 601R-57-029, dated May 30, 2000.

(A) For a flight spoiler with no damage or one that is replaced with a new or serviceable flight spoiler: Repeat the inspection required by paragraph (a) of this AD at intervals not to exceed 500 flight cycles, until the requirements of paragraph (c) of this AD have been accomplished.

(B) If both flight spoilers are replaced with new, improved spoilers having part number P/N 600-10602-73 and P/N 600-10602-74, no further action is required by paragraphs (a) and (b) of this AD.

Optional Terminating Action

(c) Replacement of flight spoilers having part number (P/N) 600-10602-1001 or 600-10602-1002 with both a new, improved left-hand flight spoiler having P/N 600-10602-73 and a new, improved right-hand flight spoiler having P/N 600-10602-74, as applicable; per Bombardier Service Bulletin 601R-57-029, dated May 30, 2000, constitutes terminating action for the requirements of paragraphs (a) and (b) of this AD.

Reporting Requirements

(d) Within 10 days of accomplishing the inspection required by paragraph (a) of this AD: Submit a report of any findings of cracking to Bombardier, Inc., Canadair, Aerospace Group, P.O. Box 6087, Station Centre-ville, Montreal, Quebec H3C 3G9, Canada. Information collection requirements contained in this regulation have been approved by the Office of Management and Budget (OMB) under the provisions of the Paperwork Reduction Act of 1980 (44 U.S.C. 3501 et seq.) and have been assigned OMB Control Number 2120-0056.

Alternative Methods of Compliance

(e) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 3: Information concerning the existence of approved alternative methods of compliance with this AD, if any, may be obtained from the New York ACO.

Special Flight Permits

(f) Special flight permits may be issued in accordance with 1A21.197 and 21.199 of the Federal Aviation Regulations (14 CFR 21.197 and 21.199) to operate the airplane to a location where the requirements of this AD can be accomplished.

Incorporation by Reference

(g) The actions shall be done in accordance with Bombardier Alert Service Bulletin A601R-57-027, Revision C, dated May 30, 2000; and Bombardier Service Bulletin 601R-57-029, dated May 30, 2000. This incorporation by reference was approved by the Director of the Federal Register in accordance with 5 U.S.C. 552(a) and 1 CFR part 51. Copies may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 4: The subject of this AD is addressed in Canadian airworthiness directive CF-2000-15, dated June 6, 2000.

Effective Date

(h) This amendment becomes effective on March 1, 2001.

Issued in Renton, Washington, on February 6, 2001.
Vi L. Lipski,
Manager, Transport Airplane Directorate, Aircraft Certification Service.

[FR Doc. 01-3563 Filed 2-13-01; 8:45 am]

BILLING CODE 4910-13-U